DEPARTMENT OF ENERGY

Senior Executive Service; Performance Review Board

AGENCY: U.S. Department of Energy

ACTION: Designation of Performance Review Board Co-Chairs.

SUMMARY: This notice provides the Performance Review Board Co-Chairs designees for the Department of Energy.

DATES: This appointment is effective as of September 30, 2013.

Susan F. Beard

Dennis M. Miotla

Issued in Washington, DC: November 8, 2013.
Tonya M. Mackey,
Director, Office of Executive Resources, Office of the Chief Human Capital Officer.

[FR Doc. 2013-28041 Filed 11-21-13; 8:45 am]

BILLING CODE 6450-01-P